NUCLEAR REGULATORY COMMISSION

NC WARN; Receipt of Request for Action Under 10 CFR 2.206

Notice is hereby given that by the petition from Mr. Jim Warren of NC WARN, dated November 5, 2001, the Nuclear Regulatory Commission (NRC) was requested to take immediate actions to protect the public against the possibility of terrorists attacking a rail shipment of spent nuclear fuel being transported by Carolina Power and Light/Progress Energy. NRC has determined that no immediate action is required at this time.

The request is being treated pursuant to 10 CFR 2.206 of the Commission's regulations. The request has been referred to the Director of the Office of Nuclear Material Safety and Safeguards. As provided by section 2.206, appropriate action will be taken on this petition within a reasonable time.

For the Nuclear Regulatory Commission.
Dated at Rockville, Maryland this 31st day of January, 2002.
Martin J. Virgilio,
Director, Office of Nuclear Material Safety and Safeguards.

[FR Doc. 02-3226 Filed 2-8-02; 8:45 am]

BILLING CODE 7590-01-P